DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Monroe County, Pennsylvania (All Jurisdictions) | Docket No.: FEMA-B-1232
Appenzell Creek | Approximately 100 feet upstream of the McMichaels Creek confluence | +486 | Township of Hamilton, Township of Jackson.
| Approximately 975 feet upstream of LR 45056 | +871
Aquashicola Creek | At the Carbon County Boundary (approximately 2.2 miles downstream of Lower Smith Gap Road) | +467 | Township of Eldred, Township of Ross.
| Approximately 1.2 miles upstream of the most upstream Upper Smith Gap Road crossing | +580
Brodhead Creek Reach 1 | At the Delaware River confluence | +323 | Township of Smithfield.
| Approximately 0.5 mile upstream of State Route 2028 | +323
Buck Hill Creek | Approximately 160 feet upstream of the Brodhead Creek Reach 2 and Middle Branch Tributary confluence | +1017 | Township of Barrett, Township of Coolbaugh.
| Approximately 2.2 miles upstream of State Route 191 | +2012
Bushkill Creek | Approximately 1,100 feet downstream of Club House Drive | +470 | Township of Middle Smithfield.
| Approximately 1,130 feet upstream of State Route 402 | +756
Cherry Creek | At the Delaware River confluence | +323 | Borough of Delaware Water Gap, Township of Hamilton, Township of Smithfield, Township of Stroud.
| Approximately 1,250 feet upstream of Spring Mountain Lane | +635
Cranberry Creek at Paradise | At the upstream side of Browns Hill Road | +715 | Township of Paradise.
| Approximately 200 feet upstream of Snowbird Lane | +1092
Cranberry Creek at Pocono | At the Pocono Creek confluence | +796 | Township of Pocono.
| Approximately 580 feet downstream of State Route 611 | +817
Delaware River | Approximately 1.3 miles downstream of I-80 | +315 | Borough of Delaware Water Gap, Township of Middle Smithfield, Township of Smithfield.
| Approximately 14.8 miles upstream of I-80 | +357
Kettle Creek | At the Appenzell Creek confluence | +491 | Township of Hamilton.
| Approximately 200 feet upstream of the Appenzell Creek confluence | +492
Lehigh River Reach 2 | Approximately 1.4 miles downstream of State Route 4003 | +1512 | Township of Coolbaugh, Township of Tobyhanna.
| Approximately 780 feet upstream of T-303 | +1617
Marshalls Creek | At the Brodhead Creek Reach 1 confluence | +323 | Township of Middle Smithfield, Township of Smithfield.
| Approximately 2.6 miles upstream of Wooddale Road | +1144
Pocono Creek | Approximately 1,000 feet upstream of the McMichaels Creek confluence | +416 | Borough of Stroudsburg, Township of Hamilton, Township of Pocono, Township of Stroud.
| Approximately 0.8 mile upstream of Wilke Road | +1441
Sambo Creek | Approximately 60 feet downstream of the railroad | +444 | Township of Stroud.
| Approximately 1,500 feet upstream of State Route 447 (extended) | +451
Scot Run | At the Pocono Creek confluence | +955 | Township of Pocono.
| Approximately 450 feet downstream of State Route 611 | +955
Shawnee Creek Reach 1 | At the Delaware River confluence | +326 | Township of Smithfield.
| Approximately 100 feet upstream of River Road | +326
Swiftwater Creek | Approximately 1,580 feet downstream of State Route 314 | +1163 | Township of Pocono, Township of Tobyhanna.
| Approximately 2.7 miles upstream of Lake Minausin Dam | +1736
Tributary 4 to Pocono Creek | At the Pocono Creek confluence | +861 | Township of Pocono.
| Approximately 110 feet downstream of Alger Avenue | +865
* National Geodetic Vertical Datum.
+ North American Vertical Datum.
# Depth in feet above ground.
‸ Mean Sea Level, rounded to the nearest 0.1 meter.
ADDRESSES
Borough of Delaware Water Gap
Maps are available for inspection at the Municipal Building, 49 Main Street, Delaware Water Gap, PA 18327.
Borough of Stroudsburg
Maps are available for inspection at the Municipal Building, 700 Sarah Street, Stroudsburg, PA 18360.
Township of Barrett
Maps are available for inspection at the Barrett Township Hall, 993 State Route 390, Cresco, PA 18326.
Township of Coolbaugh
Maps are available for inspection at the Coolbaugh Township Municipal Center, 5550 Memorial Boulevard, Tobyhanna, PA 18466.
Township of Eldred
Maps are available for inspection at the Eldred Township Office, 490 Kunkletown Road, Kunkletown, PA 18058.
Township of Hamilton
Maps are available for inspection at the Hamilton Township Municipal Building, 229 Fenner Avenue, Sciota, PA 18354.
Township of Jackson
Maps are available for inspection at the Jackson Township Municipal Building, 2162 State Route 715, Stroudsburg, PA 18360.
Township of Middle Smithfield
Maps are available for inspection at the Middle Smithfield Township Office, Schoonover Municipal Building, 25 Municipal Drive, East Stroudsburg, PA 18301.
Township of Paradise
Maps are available for inspection at the Paradise Township Municipal Building, 5912 Paradise Valley Road, Cresco, PA 18326.
Township of Pocono
Maps are available for inspection at the Pocono Township Municipal Building, 112 Township Way, Tannersville, PA 18372.
Township of Ross
Maps are available for inspection at the Ross Township Municipal Building, 258 Anchorage Road, Saylorsburg, PA 18353.
Township of Smithfield
Maps are available for inspection at the Smithfield Township Municipal Center, 1155 Red Fox Road, East Stroudsburg, PA 18301.
Township of Stroud
Maps are available for inspection at the Stroud Township Municipal Center, 1211 North 5th Street, Stroudsburg, PA 18360.
Township of Tobyhanna
Maps are available for inspection at the Tobyhanna Township Municipal Building, 105 Government Center Way, Pocono Pines, PA 18350.

(Catalog of Federal Domestic Assistance No. 97.022, “Flood Insurance.”)

James A. Walke,
Acting Deputy Associate Administrator for Mitigation, Department of Homeland Security, Federal Emergency Management Agency.

[FR Doc. 2013-02071 Filed 1-30-13; 8:45 am]

BILLING CODE 9110-12-P